DEPARTMENT OF ENERGY

Federal Energy Regulatory Commission

[Docket No. ES06-21-000]

Entergy Louisiana, Inc.; Notice of Filing

December 27, 2005.

Take notice that on December 16, 2005, Entergy Louisiana, Inc. (ELI), on behalf of Entergy Louisiana, LLC (ELL), submitted an application pursuant to section 204 of the Federal Power Act seeking authorization to:

(1) Issue units of preferred membership interest and, directly or indirectly, through one or more special purpose financing subsidiaries (Financing Subsidiaries), other forms of preferred or equity linked securities (Equity Interests), up to a combined aggregate amount of $200 million;

(2) Issue first mortgage bonds and unsecured long-term indebtedness, in a combined aggregate amount of up to $700 million;

(3) Issue in connection with the issuance of Equity Interests, to Financing Subsidiaries to the extent of the related issuance of Equity Interests and ELL's direct or indirect equity investments in such Financing Subsidiaries; and

(4) Issue tax-exempt bonds (Tax-exempt Bonds), through arrangements with one or more governmental authorities, in an aggregate principal amount of up to $500 million, including the remarketing of up to $165.95 million of previously issued Tax-exempt Bonds currently held by ELI; and, in connection with the issuance and sale (or remarketing) of such Tax-exempt Bonds, to issue and pledge collateral bonds (first mortgage bonds issued as collateral security for such Tax-exempt Bonds) in an aggregate principal amount of up to $560 million (such $560 million is not included in the $700 million referenced in (2) above), and/or to arrange for bond insurance or one or more bank letters of credit, or enter into other arrangements, to support such Tax-exempt Bonds.

In addition, in connection with the formation of Financing Subsidiaries organized solely to facilitate the issuance of Equity Interests, authorization is requested for ELL to guarantee certain obligations of such Financing Subsidiaries in respect of such Equity Interests.

ELI also requests a waiver from the Commission's competitive bidding and negotiated placement requirements at 18 CFR 34.2.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 12, 2006.

Magalie R. Salas,
Secretary.

[FR Doc. E5-8176 Filed 12-30-05; 8:45 am]

BILLING CODE 6717-01-P